DEPARTMENT OF THE INTERIOR

Bureau of Land Management

[NM-070-1430-EQ; NMNM107159]

Notice of Realty Commercial Lease on Public Land

AGENCY: Bureau of Land Management, Interior.

ACTION: Proposed Commercial Permit/Lease/Easement, Section 302, Federal Land Policy and Management Act.

SUMMARY: The Bureau of Land Management, Farmington Field Office, Farmington, New Mexico, has for consideration interest in land use authorization(s) under section 302 of the Federal Land Policy and Management Act of 1976 (90 Stat. 2762; 43 U.S.C. 1732), and regulations at 43 CFR 2920. There is one proponent for use of BLM managed public lands in the Aztec, New Mexico vicinity. Aztec Heights Development LLC proposes to use approximately 160 acres of public land for a golf course located on the following described land:

Sections 23 and 27 of Township 30 N., R.11 W., New Mexico Principal Meridian,

Sec. 23, lots 6 and 7;

Sec. 27, lots 1 and 2.

A determination to analyze the proposed project will be made subsequent to a review of the proponents application which will be accepted after the publication of the NORA.

If found suitable for the proposed uses, such use would be authorized through a competitive or non-competitive process, by lease, at fair market rental, paid annually in advance. A holder of a lease would be required, in advance of authorization, to agree to the terms and conditions of 43 CFR 2920.7 and such additional terms and conditions as are deemed necessary for the particular use authorization.

Leasing or issuance of easements under section 302 of FLPMA within the above-described area would be consistent with the Bureau of Land Management's current Farmington Resource Area Management Plan.

An authorized lessee would be required, in advance, to reimburse the United States for reasonable administrative fees and monitoring of construction, operation, maintenance, and rehabilitation of the land authorized. The reimbursement of costs would be in accordance with 43 CFR 2920.6.

Any lease authorized would be subject to valid existing rights, including, but not limited to the following:

1. A right-of-way for a natural gas pipeline granted to El Paso Natural Gas by right-of-way New Mexico 68498, under the Act of February 25, 1920 (30 U.S.C. 185).

2. A right-of-way for a natural gas pipeline granted to El Paso Natural Gas by right-of-way New Mexico 93631, under the Act of February 25, 1920 (30 U.S.C. 185).

3. A right-of-way for a natural gas pipeline granted to El Paso Natural Gas by right-of-way New Mexico 93655, under the Act of February 25, 1920 (30 U.S.C. 185).

4. A right-of-way for a natural gas pipeline granted to El Paso Natural Gas by right-of-way New Mexico 101150, under the Act of February 25, 1920 (30 U.S.C. 185).

5. A right-of-way for a natural gas pipeline granted to El Paso Natural Gas by right-of-way New Mexico 043504, under the Act of February 25, 1920 (30 U.S.C. 185).

6. A right-of-way for a natural gas pipeline granted to El Paso Natural Gas by right-of-way New Mexico 0553699, under the Act of February 25, 1920 (30 U.S.C. 185).

Detailed information is available for review at the office of the Bureau of Land Management, Farmington Field Office, 1235 La Plata Highway, Suite A, Farmington, New Mexico.

DATES: Interested parties may submit comments for a period of 45 days from publication of this Notice to: Bureau of Land Management, Field Office Manager, Farmington Field Office, 1235 La Plata Highway, Farmington, New Mexico 87401.

FOR FURTHER INFORMATION CONTACT: Kathy Ollom, Farmington Field Office, Bureau of Land Management, 1235 La Plata Highway, Farmington, New Mexico 87401; (505) 599-8914.

Joel E. Sarrell,
Acting Field Office Manager.

[FR Doc. 02-8880 Filed 4-11-02; 8:45 am]

BILLING CODE 4310-VB-P